DEPARTMENT OF TRANSPORTATION

Surface Transportation Board

[STB Finance Docket No. 34938]

Stillwater Central Railroad—Trackage Rights Exemption—BNSF Railway Company

Pursuant to a written trackage rights agreement, Stillwater Central Railroad (SLWC) has agreed to grant overhead trackage rights to BNSF Railway Company (BNSF) over SLWC's rail line extending between milepost 668.73 at Long, OK, and milepost 438.9 at Sapulpa, OK, a distance of approximately 229.83 miles.

The transaction is scheduled to be consummated on or before January 1, 2007.¹ The purpose of the trackage rights is to allow for the movement of BNSF's trains overhead between (a) Long, OK, and Oklahoma City, OK, and (b) Long, OK, and Sapulpa, OK.

¹ The trackage rights agreement provides for an initial term of 15 years. The parties must seek appropriate Board authority for the trackage rights to expire at the end of that time period.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34938, must be filed with the Surface Transportation Board, 1925 K Street, NW., Washington, DC 20423-0001. In addition, a copy of each pleading must be served on Sidney L. Strickland Jr., Sidney Strickland and Associates, PLLC, 3050 K Street, NW., Suite 101, Washington, DC 20007.

Board decisions and notices are available on our Web site at “http://www.stb.dot.gov.”

Decided: December 1, 2006.
By the Board, David M. Konschnik, Director, Office of Proceedings.
Vernon A. Williams,
Secretary.

[FR Doc. E6-20903 Filed 12-7-06; 8:45 am]

BILLING CODE 4915-01-P